DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on March 12, 2025. See SUPPLEMENTARY INFORMATION for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On March 12, 2025, OFAC determined that the property and interests in property subject to U.S. jurisdiction of the following persons are blocked under the relevant sanctions authority listed below.

Individual

1. MAJID, Rawa (a.k.a. OTHMAN, Miran Rekawt; a.k.a. “Kurdish Fox”), Iran; DOB 12 Jul 1986; POB Kermanshah, Iran; nationality Sweden; alt. nationality Iraq; citizen Sweden; Additional Sanctions Information—Subject to Secondary Sanctions; Gender Male (individual) [TCO] (Linked To: FOXTROT NETWORK).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended), for being owned or controlled by, or having acted or purported to act for or on behalf of, directly or indirectly, FOXTROT NETWORK, a person whose property and interests in property are blocked pursuant to E.O. 13581, as amended.

Entity

1. FOXTROT NETWORK, Sweden; Organization Established Date 2015 to 2019; Target Type Criminal Organization [TCO].

Designated pursuant to section 1(a)(ii)(A) of E.O. 13581, as amended, for being a foreign person that constitutes a significant transnational criminal organization.

Lisa M. Palluconi,
Acting Director, Office of Foreign Assets Control.

[FR Doc. 2025-04268 Filed 3-14-25; 8:45 am]

BILLING CODE 4810-AL-P